DEPARTMENT OF LABOR

Office of Workers' Compensation Programs

[OMB Control No. 1240-0031]

Proposed Extension of Information Collection; Certification by School Official

AGENCY: Office of Workers' Compensation Programs.

ACTION: Request for public comments.

SUMMARY: The Department of Labor (DOL) is soliciting comments concerning a proposed extension for the authority to conduct the information collection request (ICR) titled, “Certification of School Official.” This comment request is part of continuing Departmental efforts to reduce paperwork and respondent burden in accordance with the Paperwork Reduction Act of 1995 (PRA).

DATES: All comments must be received on or before March 2, 2026.

ADDRESSES: You may submit comment as follows. Please note that late, untimely filed comments will not be considered.

Electronic Submissions: Submit electronic comments in the following way:

• Federal eRulemaking Portal: https://www.regulations.gov. Follow the instructions for submitting comments for WCPO-2025-0138. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission and mark it confidential.

Written/Paper Submissions: Submit written/paper submissions in the following way:

• Mail/Hand Delivery: Mail or visit DOL-OWCP, Division of Coal Mine Workers' Compensation, 200 Constitution Avenue NW, Washington, DC 20210.

• OWCP will post your comment as well as any attachments, except for information submitted and marked as confidential, in the docket at https://www.regulations.gov.

FOR FURTHER INFORMATION CONTACT: Anjanette Suggs, Office of Office of Workers' Compensation Programs, at suggs.anjanette@dol.gov (email).

SUPPLEMENTARY INFORMATION:

I. Background

The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Certification by School Official information collection mandates that in order to qualify as an eligible dependent for black lung benefits, a child aged 18- to 23-years must be a full-time student as described in the Black Lung Benefits Act, 30 U.S.C. 901 et seq., and regulations 20 CFR 725.209. A school official completes a Certification by School Official (Form CM-981) to verify whether a Black Lung beneficiary's dependent between the ages of 18 to 23 years qualifies as a full-time student. Black Lung Benefits Act section 426 authorizes this information collection. See 30 U.S.C. 936.

This information collection is being classified as an extension of an existing collection. 30 U.S.C. 902(g); 20 CFR 725.209, 725.218 require that all relevant medical evidence be considered before a decision can be made regarding a claimant's eligibility for benefits. By signing the CM-981 form, the claimant authorizes physicians, hospitals, medical facilities or organizations, and the National Institute for Occupational Safety and Health to release medical information about the miner to the Department of Labor's Office of Workers' Compensation Programs. The form contains information required by medical institutions and private physicians to enable them to release pertinent medical information. This information collection is currently approved for use through June 30, 2026.

This information collection is subject to PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration and summarized and included in the request for OMB approval of the final ICR. In order to help ensure appropriate consideration, comments should mention 1240-0031.

Submitted comments will also be a matter of public record for this ICR and posted on the internet, without redaction. The DOL encourages commenters not to include personally identifiable information, confidential business data, or other sensitive statements/information in any comments.

II. Desired Focus of Comments

OWCP is soliciting comments concerning the proposed information collection related to the Certification by School Official. OWCP is particularly interested in comments that:

• Evaluate whether the collection of information is necessary for the proper performance of the functions of the Agency, including whether the information has practical utility;

• Evaluate the accuracy of OWCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Documents related to this information collection request are available at https://regulations.gov and at DOL-OWCP located at 200 Constitution Avenue NW, Room S-3524, Washington, DC 20210. Questions about the information collection requirements may be directed to the person listed in the FOR FURTHER INFORMATION section of this notice.

III. Current Actions

This information collection request concerns Certification by School Official. OWCP has updated the data with respect to the number of respondents, responses, burden hours, and burden costs supporting this information collection request from the previous information collection request.

Type of Review: Extension without change of a currently approved collection.

Agency: Office of Workers' Compensation Programs.

OMB Number: 1240-0031.

Affected Public: State, Local, and Tribal Governments.

Number of Respondents: 195.

Number of Responses: 195.

Annual Burden Hours: 33 hours.

Annual Respondent or Recordkeeper Cost: $146.00.

OWCP Forms: CM-981, Certification by School Official.

Comments submitted in response to this notice will be summarized in the request for Office of Management and Budget approval of the proposed information collection request; they will become a matter of public record and will be available at https://www.reginfo.gov.

Anjanette Suggs,
Agency Clearance Officer.

[FR Doc. 2025-24074 Filed 12-30-25; 8:45 am]

BILLING CODE 4510-CR-P